Title 3—

The President

Proclamation 9790 of September 21, 2018

National Hunting and Fishing Day, 2018

By the President of the United States of America

A Proclamation

The United States is blessed with abundant resources and unrivaled natural beauty. Our wildlife has provided ample opportunities for generations of Americans to enjoy hunting and fishing with their family and friends. On National Hunting and Fishing Day, we recognize the important contributions that America's hunters and anglers make to our society, our thriving economy, and our continued conservation successes nationwide. We also encourage Americans to experience the wonders of the great outdoors and learn the responsibilities of hunting and fishing.

According to the United States Fish and Wildlife Service, more than 35 million Americans fished and more than 11 million hunted in 2016. These impressive numbers highlight our country's connection with the great outdoors, and also represent a tremendous boost to our Nation's economy. Hunters and anglers invest more than $70 billion each year on licenses, tags, equipment, travel, and more. From the waters of the gulf coast to the mountain ranges that reign over the West, American adventurers are supporting thousands of jobs and contributing to the revenue streams of all States.

Hunting and fishing provide Americans new experiences to explore, protect, and learn about the vast frontiers of our environment. Sportsmen and women are our Nation's most committed conservationists. This is the result of spending time connecting with the land, water, and wildlife, and understanding the link between healthy habitats and thriving sporting opportunities. Hunting and fishing are premised on respect for wildlife and the formidable beauty of the natural world, and increase our appreciation for the food we eat, prepare, and provide to others. Hunting and fishing also keep our waters stocked and our forests healthy, ensuring that our country's public and private lands continue to provide both sustenance and sport for future generations.

The traditions and ethics of hunting and fishing are inseparable from the American way of life and are at the foundation of our culture. My Administration is committed to keeping America's lands and waterways open for hunters and anglers to enjoy for years to come. We have already opened or expanded hunting or fishing opportunities on more than 380,000 acres. Today, we celebrate the rugged and enduring spirit of our Nation's hunters and anglers, and we acknowledge the countless benefits hunting and fishing bring to the United States of America.

NOW, THEREFORE, I, DONALD J. TRUMP, President of the United States of America, by virtue of the authority vested in me by the Constitution and the laws of the United States, do hereby proclaim September 22, 2018, as National Hunting and Fishing Day. I call upon the people of the United States to join me in recognizing the contributions of America's hunters and anglers, and all those who work to conserve our Nation's fish and wildlife resources.

IN WITNESS WHEREOF, I have hereunto set my hand this twenty-first day of September, in the year of our Lord two thousand eighteen, and of the Independence of the United States of America the two hundred and forty-third.

[FR Doc. 2018-21244

Filed 9-26-18; 11:15 am]

Billing code 3295-F8-P